GENERAL SERVICES ADMINISTRATION

48 CFR Parts 515, 538, and 552

[GSAR Case 2013-G502; Docket 2014-0009; Sequence 1]

RIN 3090-AJ41

General Services Administration Acquisition Regulation (GSAR); Federal Supply Schedule Contracting (Administrative Changes); Extension of Time for Comments

AGENCY: Office of Acquisition Policy, General Services Administration.

ACTION: Proposed rule; extension of comment period.

SUMMARY: The General Services Administration (GSA) issued a proposed rule on September 10, 2014, amending the General Services Administration Acquisition Regulation (GSAR) to clarify and update the contracting by negotiation GSAR section and incorporate existing Federal Supply Schedule Contracting policies and procedures, and corresponding provisions and clauses. The comment period is being extended to provide additional time for interested parties to provide comments for GSAR Case 2013-G502, Federal Supply Schedule Contracting (Administrative Changes), to November 21, 2014.

DATES: For the proposed rule published on September 10, 2014 (79 FR 54126), submit comments by November 21, 2014.

ADDRESSES: Submit comments in response to GSAR Case 2013-G502 by any of the following methods:

• Regulations.gov: http://www.regulations.gov. Submit comments by searching for “GSAR Case 2013-G502”. Select the link “Comment Now” and follow the instructions provided at the “You are commenting on” screen. Please include your name, company name (if any), and “GSAR Case 2013-G502”, on your attached document.

• Fax: 202-501-4067.

• Mail: U.S. General Services Administration, Regulatory Secretariat Division (MVCB), 1800 F Street NW., 2nd Floor, ATTN: Hada Flowers, Washington, DC 20405-0001.

Instructions: Please submit comments only and cite GSAR Case 2013-G502 in all correspondence related to this case. All comments received will be posted without change to http://www.regulations.gov, including any personal and/or business confidential information provided.

FOR FURTHER INFORMATION CONTACT: Ms. Dana Munson, General Services Acquisition Policy Division, GSA, 202-357-9652 or email Dana.Munson@gsa.gov, for clarification of content. For information pertaining to status or publication schedules, contact the Regulatory Secretariat at 202-501-4755. Please cite GSAR Case 2013-G502.

SUPPLEMENTARY INFORMATION:

I. Background

GSA published a proposed rule in the Federal Register at 79 FR 54126, September 10, 2014. The comment period is extended to provide additional time for interested parties to submit comments on the GSAR case until November 21, 2014.

List of Subjects in 48 CFR Parts 515, 538, and 552

Government procurement.

Dated: October 23, 2014.
Jeffrey A. Koses,
Senior Procurement Executive, Office of Acquisition Policy, Office of Government-wide Policy.

[FR Doc. 2014-25702 Filed 10-28-14; 8:45 am]

BILLING CODE 6820-61-P